DEPARTMENT OF JUSTICE

Antitrust Division

Notice Pursuant to the National Cooperative Research and Production Act of 1993—IMS Global Learning Consortium, Inc.

Notice is hereby given that, on April 14, 2020, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, 42 Lines, Champaign, IL; Chan Zuckerberg Initiative, LLC, Redwood City, CA; E-Locker, Norman, OK; Idaho Division of Career Technical Educ., Boise, ID; IQ4, Woodcliff, NJ; Ladok/Umeå University, Stockholm, SWEDEN; Michigan Virtual University, Lansing, MI; NDLA, Bergen, NORWAY; North Carolina State University c/o The Friday Institute for Educational Innovation, Raleigh, NC; Paradigm, Inc., Virginia Beach, VA; Partners4 Results, Waukesha, WI; RethinkED, New York, NY; Suitable, Philadelphia, PA; UVII, New York, NY; and Pearson K12 Learning, Chandler, AZ, have been added as parties to this venture.

Also, Learning Logistics, McKinney, TX; Questar Assessment Inc., Apple Valley, MN; Follett Corporation, Westchester, IL; and Aspire/Ability Inc., Payson, UT, have withdrawn as parties to this venture.

In addition, Academic Center for Computing and Media Studies, Kyoto University has changed its name to Institute for Information Management and Communications, Kyoto University, Kyoto, JAPAN; University of Maryland University College to University of Maryland Global Campus, Adelphi, MD; and Learning Machine to Hyland Credentials, Dallas, TX.

No other changes have been made in either the membership or planned activity of the group research project. Membership in this group research project remains open and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on January 28, 2020. A notice was published in the Federal Register pursuant to Section 6(b) of the Act on February 10, 2020 (85 FR 7605).

Suzanne Morris,
Chief, Premerger and Division Statistics Unit, Antitrust Division.

[FR Doc. 2020-08672 Filed 4-23-20; 8:45 am]

BILLING CODE 4410-11-P